FEDERAL COMMUNICATIONS COMMISSION

47 CFR Part 73

[DA 01-2205; MM Docket No. 00-169; RM-9953]

Radio Broadcasting Services; Oswego and Granby, NY

AGENCY: Federal Communications Commission.

ACTION: Final rule.

SUMMARY: In response to a Notice of Proposed Rule Making, 65 FR 57800 (September 26, 2000) this document reallots Channel 288A from Oswego to Granby, New York and provides Granby with its first local aural transmission service. The coordinates for Channel 288A at Granby are 43-17-44 North Latitude and 76-26-16 West Longitude.

DATES: Effective November 5, 2001.

FOR FURTHER INFORMATION CONTACT: R. Barthen Gorman, Mass Media Bureau, (202) 418-2180.

SUPPLEMENTARY INFORMATION: This is a synopsis of the Commission's Report and Order, MM Docket No. 00-169, adopted September 12, 2001, and released September 21, 2001. The full text of this Commission decision is available for inspection and copying during normal business hours in the FCC's Reference Information Center at Portals II, CY-A257, 445 12th Street, SW., Washington, DC. The complete text of this decision may also be purchased from the Commission's copy contractor: Qualex International, Portals II, 445 12th Street, SW, Room CY-B402, Washington, D.C. 20554.

List of Subjects in 47 CFR Part 73

Radio broadcasting.

Part 73 of Title 47 of the Code of Federal Regulations is amended as follows:

PART 73—RADIO BROADCAST SERVICES

1. The authority citation for Part 73 reads as follows:

Authority: 47 U.S.C. 154, 303, 334, and 336.

§ 73.202 [Amended]

2. Section 73.202(b), the Table of FM Allotments under New York, is amended by adding Granby, Channel 288A, and removing Channel 288A from Oswego.

Federal Communications Commission.
John A. Karousos,
Chief, Allocations Branch, Policy and Rules Division, Mass Media Bureau.

[FR Doc. 01-25116 Filed 10-5-01; 8:45 am]

BILLING CODE 6712-01-P